ENVIRONMENTAL PROTECTION AGENCY

40 CFR Part 141

[FRL-7048-9]

Unregulated Contaminant Monitoring Regulation for Public Water Systems; Amendment to the List 2 Rule and Partial Delay of Reporting of Monitoring Results

AGENCY: Environmental Protection Agency.

ACTION: Proposed rule.

SUMMARY: The Safe Drinking Water Act (SDWA), as amended in 1996, requires the U.S. Environmental Protection Agency to establish criteria for a program to monitor unregulated contaminants and to publish a list of contaminants to be monitored. In fulfillment of this requirement, EPA published Revisions to the Unregulated Contaminant Monitoring Regulation (UCMR) for public water systems on September 17, 1999 (64 FR 50556), March 2, 2000 (65 FR 11372) and January 11, 2001 (66 FR 2273), which included lists of contaminants for which monitoring was required or would be required in the future. EPA is proposing to correct an omission in the January 11, 2001, List 2 UCMR concerning laboratory certification. This correction will automatically approve laboratories of public water systems, that are certified to conduct compliance monitoring using Method 515.3, to also use Method 515.4 for UCMR analyses. Additionally, EPA is delaying requirements for the electronic reporting of unregulated contaminant monitoring results until its electronic reporting system is ready to accept data. The January 11, 2001, List 2 UCMR requires certain public water systems to start reporting the results of their unregulated contaminant monitoring to EPA electronically by July 1, 2001. This proposed rule notifies such public water systems that the electronic reporting system that EPA is developing to accept monitoring data is not ready, and that EPA is removing the reporting requirement until it is available. This action does not delay or suspend the implementation of any of the requirements of the Unregulated Contaminant Monitoring Regulations for sample collection and analysis on the previously established schedule.

DATES: Comments must be received in writing by October 4, 2001.

ADDRESSES: Please send an original and three copies of your comments and enclosures (including references) to docket number W-00-01-III, Comment Clerk, Water Docket (MC4101), USEPA, 1200 Pennsylvania Ave., NW., Washington, DC 20460. Hand deliveries should be delivered to EPA's Water Docket at 401 M. St., SW., Room EB57, Washington, DC. Commenters who want EPA to acknowledge receipt of their comments should enclose a self-addressed, stamped envelope. No facsimiles (faxes) will be accepted. Comments may also be submitted electronically to ow-docket@epamail.epa.gov. Electronic comments must be submitted as a Word Perfect (WP), WP5.1, WP6.1 or WP8 file or as an ASCII file avoiding the use of special characters and forms of encryption. Electronic comments must be identified by the docket number W-00-01-III. Comments and data will also be accepted on disks in WP 5.1, 6.1, 8 or ASCII file format. Electronic comments on this proposed rule may be filed online at many Federal Depository Libraries.

The record for this proposed rulemaking has been established under docket number W-00-01-III and includes supporting documentation as well as printed, paper versions of electronic comments. The record is available for inspection from 9 to 4 p.m., Monday through Friday, excluding legal holidays at the Water Docket, EB 57, USEPA Headquarters, 401 M., Washington, DC. For access to docket materials, please call 202/260-3027 to schedule an appointment.

FOR FURTHER INFORMATION CONTACT: Charles Job (202-260-7084) or Jeffrey Bryan (202-260-4934), Drinking Water Protection Division, Office of Ground Water and Drinking Water (MC-4607), U.S. Environmental Protection Agency, 1200 Pennsylvania Avenue, NW, Washington, DC 20460. General information about UCMR may be obtained from the EPA Safe Drinking Water Hotline at (800) 426-4791. The Hotline operates Monday through Friday, excluding Federal holidays, from 9 a.m. to 5:30 p.m. ET.

SUPPLEMENTARY INFORMATION: EPA is proposing to approve revisions to the January 11, 2001, UCMR for Public Water Systems. In the “Rules and Regulations” section of today's Federal Register, EPA is approving revisions to the Unregulated Contaminant Monitoring Regulation for Public Water Systems as a direct final rule without prior proposal because EPA views these as noncontroversial revisions and anticipates no adverse comment. EPA has explained our reasons for this approval in the preamble to the direct final rule. If EPA receives no adverse comment, it will not take further action on this proposed rule. If EPA receives adverse comment, the Agency will withdraw the direct final rule and it will not take effect. EPA would then address all public comments in a subsequent final rule based on this proposed rule. EPA will not institute a second comment period on this action. Any parties interested in commenting must do so at this time. For further information, please see the information provided in the direct final rule titled “Unregulated Contaminant Monitoring Regulation for Public Water Systems; Amendment to the List 2 Rule and Partial Delay of Reporting of Monitoring Results” that is located in the “Rules and Regulations” section of this Federal Register publication. For the various statutes and executive orders that require findings for rulemaking, EPA incorporates the findings from the direct final rule into this companion proposal for the purpose of providing public notice and opportunity for comment.

List of Subjects in 40 CFR Part 141

Environmental protection, Chemicals, Indian lands, Intergovernmental relations, Radiation protection, Reporting and recordkeeping requirements, Water supply.

Dated: August 28, 2001.
Christine Todd Whitman,
Administrator.

[FR Doc. 01-22115 Filed 8-29-01; 2:33 pm]

BILLING CODE 6560-50-P